DEPARTMENT OF LABOR

Employment and Training Administration

[TA-W-56,198]

Specialty Electronics, Inc., Currently Known as Delphi Connection Systems-Specialty Electronics Landrum, SC; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on January 14, 2005, applicable to workers of Specialty Electronics, Inc., Landrum, South Carolina. The notice was published in the Federal Register on February 7, 2005 (70 FR 6460).

At the request of the company, the Department reviewed the certification for workers of the subject firm. The workers were engaged in the production of electrical connectors.

New information provided by the company shows that in November 2001, Delphi Connection Systems purchased Specialty Electronics, Inc. and is currently known as Delphi Connection Systems-Specialty Electronics, Inc. Some workers separated from employment at the subject firm had their wages reported under a separate unemployment insurance (UI) tax accounts for Delphi Connection Systems.

Accordingly, the Department is amending the certification to properly reflect this matter.

The intent of the Department's certification is to include all workers of Delphi Connection Systems-Specialty Electronics, Inc., Landrum, South Carolina who were adversely affected by a shift in production of electrical connectors to Mexico and Singapore.

The amended notice applicable to TA-W-56,198 is hereby issued as follows:

“All workers of Specialty Electronics, Inc., currently known as Delphi Connection Systems-Specialty Electronics, Inc., Landrum, South Carolina, who became totally or partially separated from employment on or after December 10, 2003, through January 14, 2007, are eligible to apply for adjustment assistance under section 223 of the Trade Act of 1974, and are also eligible to apply for alternative trade adjustment assistance under section 246 of the Trade Act of 1974.”

Signed at Washington, DC, this 5th day of April 2006.
Richard Church,
Certifying Officer, Division of Trade Adjustment Assistance.

[FR Doc. E6-5763 Filed 4-17-06; 8:45 am]

BILLING CODE 4510-30-P